DEPARTMENT OF COMMERCE

National Oceanic and Atmospheric Administration

Availability of Seats for the Florida Keys National Marine Sanctuary Advisory Council

AGENCY: Office of National Marine Sanctuaries (ONMS), National Ocean Service (NOS), National Oceanic and Atmospheric Administration (NOAA), Department of Commerce (DOC).

ACTION: Notice and request for applications.

SUMMARY: The ONMS is seeking applications for the following vacant seats on the Florida Keys National Marine Sanctuary Advisory Council: Boating Industry (member), Boating Industry (alternate), Citizen at Large—Middle Keys (alternate), Citizen at Large—Upper Keys (member) Citizen at Large—Upper Keys (alternate), Diving—Upper Keys (member), Diving—Upper Keys (alternate), Fishing Charter Sports Fishing (member), Fishing—Charter Sports Fishing (alternate), Fishing—Commercial—Marine/Tropical (member), Fishing Commercial Marine/Tropical (alternate), Fishing—Commercial—Shell/Scale (alternate), Fishing—Recreational (member), Fishing Recreational (alternate), Research and Monitoring (member), Research and Monitoring (alternate), South Florida Ecosystem Restoration (member), Tourism—Lower Keys (member), Tourism Lower Keys (alternate), and Tourism Upper Keys (member). Applicants are chosen based upon their particular expertise and experience in relation to the seat for which they are applying; community and professional affiliations; philosophy regarding the protection and management of marine resources; and possibly the length of residence in the area affected by the sanctuary. Applicants who are chosen as members should expect to serve 3-year terms, pursuant to the council's Charter.

DATES: Applications are due by August 6, 2010.

ADDRESSES: Application kits may be obtained from Lilli Ferguson, Florida Keys National Marine Sanctuary, 33 East Quay Rd., Key West, FL 33040. Completed applications should be sent to the same address.

FOR FURTHER INFORMATION CONTACT: Lilli Ferguson, Florida Keys National Marine Sanctuary, 33 East Quay Rd., Key West, FL 33040; (305) 292-0311 x245; Liili.Ferguson@noaa.gov.

SUPPLEMENTARY INFORMATION: Per the council's Charter, if necessary, terms of appointment may be changed to provide for staggered expiration dates or member resignation mid term.

Authority: 16 U.S.C. 1431, et seq.

(Federal Domestic Assistance Catalog Number 11.429 Marine Sanctuary Program)

Dated: June 14, 2010.
Daniel J. Basta,
Director of National Marine Sanctuaries, National Ocean Service, National Oceanic and Atmospheric Administration.

[FR Doc. 2010-16744 Filed 7-9-10; 8:45 am]

BILLING CODE 3510-NK-M